DEPARTMENT OF ENERGY

Federal Energy Regulatory Commission

[Docket No. CP02-54-000]

Northern Natural Gas Company; Notice of an Application

February 15, 2002.

Take notice that on December 18, 2001, Northern Natural Gas Company (Northern), filed pursuant to section 7(b) of the Natural Gas Act (NGA), as amended, and the Rules and Regulations of the Federal Energy Regulatory Commission (Commission), requesting permission and approval to abandon service under an individually certificated agreements, all as more fully set forth in the joint application which is on file with the Commission, and open to public inspection.

Specifically, Northern, proposes to abandon Rate Schedules X-90 to North Texas Gas Company; X-81 to Getty Oil Company; X-52 to Panhandle Eastern Pipe Line Company; X-29 to BP America Inc.; and X-16 to West Texas Gas, all contained in its FERC Gas Tariffs, Original Volume No. 2. The agreements have terminated pursuant to its terms.

Any questions regarding this application should be directed to Keith L. Petersen, Director, Certificates and Reporting for Northern, 1111 South 103 Street, Omaha, Nebraska 68124, or Bret Fritch, Senior Regulatory Analyst, at (402) 398-7140.

Any person desiring to be herd or to protest said filing should file a motion to intervene or a protest with the Federal Energy Regulatory Commission, 888 First Street, NE, Washington, DC 20426, in accordance with Section 385.214 and Section 385.211 of the Commission's Rules and Regulations. All such protests must be filed by March 8, 2002. Protests will be considered by the Commission in determining the appropriate action to be taken, but will not serve to make Protestants parties to the proceedings. Any person wishing to become a party must file a motion to intervene. Copies of this filing are on file with the Commission and are available for public inspection. Comments, protests and interventions may be filed electronically via the Internet in lieu of paper. See, 18 CFR 385.2001(a)(1)(iii) and the instructions on the Commission's Web site under the “e-Filing” link.

Take further notice that, pursuant to the authority contained in and subject to the jurisdiction conferred upon the Commission by section 7 and 15 of the National Gas Act and the Commission's Rules of Practice and Procedures, a hearing will be held without further notice before the Commission on this application if no protest or motion to intervene is filed within the time required herein. At that time, the Commission, on its own review of the matter, will determine whether granting the Abandonment is required by the public convenience and necessity. If a petition for leave to intervene is timely filed, or the Commission on its own motion believe that a formal hearing is required, further notice of such hearing will be duly given.

Under the procedure herein provided for, unless otherwise advised, it will be unnecessary for Northern to appear or be represented at the hearing.

Magalie R. Salas,
Secretary.

[FR Doc. 02-4245 Filed 2-21-02; 8:45 am]

BILLING CODE 6717-01-P